POSTAL SERVICE

39 CFR Part 111

Barcode Requirements for Special Services Labels

AGENCY: Postal Service.

ACTION: Final rule.

SUMMARY: The Postal Service has redesigned the following special services forms and labels: PS Form 3800, Receipt for Certified Mail; PS Form 3813-P, Receipt for Insured Mail—Domestic—International; PS Form 8099, Receipt for Recorded Delivery; Label 200, Registered Mail; and PS Form 3804, Return Receipt for Merchandise. In addition to the current Optical Character Reader font on the labels, the Postal Service is placing formatted barcodes. The USS-128 Subset A format barcode will be used on all USPS-printed retail labels for insured mail, recorded delivery mail, and registered mail. The USS Code 128 Subset C format will be used on all USPS-printed retail labels for certified mail and return receipt for merchandise. Customer-generated labels for these services will be either USS Code 128 or USS I 2 of 5 barcode format. Vendors and mailers preparing customer-generated labels will be required to comply with these requirements for special service labels by June 10, 2000. This final rule sets forth the new Domestic Mail Manual (DMM) and International Mail Manual (IMM) language.

DATES: Effective January 24, 2000. All parties must comply with this final rule by June 10, 2000.

FOR FURTHER INFORMATION CONTACT: Mary Shriver, (202) 268-6554.

SUPPLEMENTARY INFORMATION: On October 6, 1999, the Postal Service published in the Federal Register a proposed rule seeking public comment on a proposal to require barcodes on special services labels. The Postal Service received responses from mailers offering comments, but only on the technical specifications in the proposed rule. Five comments were submitted on label dimensions and sizes, four concerned printing specifics, two expressed uncertainty about the required label stock, nine inquired on barcode specifics, and three sought clarification of compliance procedures. In order to address the highly specific nature of comments received regarding the technical specifications of barcodes for the new special services labels, the Postal Service is responding to each respondent's comments or concerns individually by letter.

This final rule gives notice of classification changes to implement barcoded special services labels. The Postal Service has invested in an information technology infrastructure that includes the capability to scan barcodes upon delivery. To maximize the cost-effectiveness of this infrastructure and to achieve long-standing goals for improved customer information management, the Postal Service has implemented a barcode system for specific special services like the one for Delivery Confirmation and Signature Confirmation services. The affected special services include certified mail, insured mail, recorded delivery mail, registered mail, and return receipt for merchandise. The infrastructure will be used as part of the Postal Service plan to optically scan and electronically store recipient signatures. The new retail label deployment for these special services began in January 2000.

Barcodes on special services labels will be scanned at acceptance and at delivery, and an electronic record will be created for each mailpiece. If the customer is not home to sign for delivery, the carrier will leave a PS Form 3849, Delivery Notification/Reminder/Receipt, to inform the customer that a mailpiece is waiting for pickup at the local office. The barcoded mailpiece will be scanned as an attempted delivery.

Mailers may use either of these special services label options:

a. USPS-printed forms obtained from a post office at no charge.

b. Privately printed forms that are nearly identical in design to USPS-printed special services forms (as authorized by USPS). Privately printed barcoded labels must meet the requirements in Publication 109, Special Services Technical Guide.

Vendors or producers of privately printed labels will need to receive certification of their labels from the National Customer Support Center (NCSC), as described in Publication 109. To receive certification, a vendor or label producer must supply for evaluation and approval a sample that includes 20 barcoded labels generated by each printing process or printing device to be used. The sample is sent to: Barcode Certification, National Customer Support Center, 6060 Primacy Parkway Ste 201, Memphis TN 38188-0001.

In the event that barcode print quality falls out of tolerance on privately printed labels after approval has been granted, the vendor or label producer will be contacted by USPS, and an effort will be made to jointly resolve the problem. Should circumstances warrant, the printing and use of mailer-printed labels may be discontinued until a vendor or label producer's printer(s) is re-certified.

Publication 109, Special Services Technical Guide, has been created to provide greater detail for label specifications, barcode symbology, label certification, and service type codes, instead of adding such specifications to the DMM, as proposed October 6, 1999. Publication 109 has been developed to provide mailers with a handbook containing detailed information on how to produce their own special services barcoded labels. Private printers producing special services labels must adhere to the standards set forth by the U.S. Postal Service and found in Publication 109.

For the reasons discussed above, the Postal Service is not amending the DMM with respect to the technical specifications included in the October 6 proposed rule. Instead, the Postal Service hereby adopts the following amendments to the Domestic Mail Manual and International Mail Manual (IMM), which are incorporated by reference in the Code of Federal Regulations (see 39 CFR Part 111).

PART 111—[AMENDED]

1. The authority citation for 39 CFR Part 111 continues to read as follows:

Authority: 5 U.S.C. 552(a), 39 U.S.C. 101, 401, 403, 404, 414, 3001-3011, 3201-3219, 3403-3406, 3621, 3626, 5001.

2. Amend the following sections of the Domestic Mail Manual (DMM) as set forth below:

S SPECIAL SERVICES

* * * * *

S900 Special Postal Services

S910 Security and Accountability

S911 Registered Mail

* * * * *

3.0 MAILING

* * * * *

3.4 Label 200

(Amend 3.4 to include new barcode requirements to read as follows:)

Registered mail must bear a barcoded red Label 200 (see Exhibit 3.4). The label must be placed above the delivery address and to the right of the return address, or to the left of the delivery address on parcels. Any large-volume mailer can obtain Label 200 in rolls of 100.

(Redesignate current 3.5 through 3.9 as 3.6 through 3.10. Insert new 3.5 to read as follows:)

3.5 Privately Printed Label 200

If authorized, a mailer may use a privately printed Label 200, Registered Mail, for domestic mail only. Privately printed labels must be nearly identical in design and color to the USPS form, with a barcode and human-readable numbers that meet USPS specifications in Publication 109. A minimum of three preproduction samples must be submitted to the business mail entry manager serving the mailer's location for review by the mailpiece design analyst. Once approved, the mailer must print sample labels with barcodes to be certified under the technical requirements in Publication 109.

* * * * *

S912 Certified Mail

* * * * *

2.0 MAILING

* * * * *

2.3 Form 3800

(Amend 2.3 to include barcode requirements to read as follows:)

Certified mail must bear a barcoded green Form 3800, Receipt for Certified Mail (see Exhibit 2.3). The label part of the form must be placed above the delivery address and to the right of the return address, or to the left of the delivery address on parcels.

2.4 Privately Printed Form 3800

(Amend 2.4 by adding requirements for privately printed Form 3800 to read as follows:)

If authorized, a mailer may use a privately printed Form 3800, Receipt for Certified Mail. The privately printed form must be nearly identical in design, color, and fluorescent properties to the USPS form with a barcode and human readable numbers that meet the USPS specifications in Publication 109. A minimum of three preproduction samples must be submitted to the business mail entry manager serving the mailer's location for review by the mailpiece design analyst. Once approved, the mailer must print sample labels with barcodes to be certified under the technical requirements in Publication 109.

* * * * *

S913 Insured Mail

* * * * *

2.0 MAILING

* * * * *

2.3 Markings and Use of Form 3813-P

The treatment of parcels is determined by the insurance amount:

a. Insured for $50 or less: Each parcel must be stamped on the address side with an elliptical insured marking as shown in Exhibit 2.3. This marking must be placed above the delivery address and to the right of the return address.

b. Insured for more than $50: Each parcel must have barcoded Form 3813-P, Receipt for Insured Mail, shown in Exhibit 2.3, affixed above the delivery address and to the right of the return address. Form 3813-P must not be used for parcels insured for $50 or less.

c. All insured parcels, regardless of insurance amount, must be postmarked unless a postage meter stamp or permit imprint is used to pay postage.

Exhibit 2.3 Insurance Endorsements, Form 3813-P

2.4 Privately Printed Form 3813-P

(Amend 2.4 by adding requirements for privately printed Form 3813-P to read as follows:)

If authorized, a mailer may use a privately printed Form 3813-P, Receipt for Insured Mail, for domestic mail only. The privately printed form must be nearly identical in design and color to the USPS form with a barcode and human readable numbers that meet the USPS specifications in Publication 109. A minimum of three preproduction samples must be submitted to the business mail entry manager serving the mailer's location for review by the mailpiece design analyst. Once approved, the mailer must print sample labels with barcodes to be certified under the technical requirements in Publication 109.

* * * * *

S917 Return Receipt for Merchandise

1.0 BASIC INFORMATION

(Delete 1.4 and 1.5. Renumber 1.6 as 1.4.)

* * * * *

2.0 MAILING

(Add new 2.4 and 2.5. Renumber current 2.4 as 2.6.)

2.4 Form 3804

Return receipt for merchandise mail must bear a barcoded brown Form 3804 (see Exhibit 2.4). The label part of the form and the endorsement “Return Receipt Requested” must be placed above the delivery address and to the right of the return address, or to the left of the delivery address on parcels.

2.5 Privately Printed Form 3804

If authorized, a mailer may use a privately printed Form 3804, Return Receipt for Merchandise. The privately printed form must be nearly identical in design and color to the USPS form with a barcode and human readable numbers that meet the USPS specifications in Publication 109. A minimum of three preproduction samples must be submitted to the business mail entry manager serving the mailer's location for review by the mailpiece design analyst. Once approved, the mailer must print sample labels with barcodes to be certified under the technical requirements in Publication 109.

* * * * *

S921 Collect on Delivery (COD) Mail

* * * * *

2.0 COD FORMS

2.1 Availability and Conditions

(Amend 2.1 by adding reference to the barcode requirements to read as follows:)

Mailers must complete barcoded Form 3816, COD Mailing and Delivery Receipt (see Exhibit 2.1), and attach it either above the delivery address and to the right of the return address, or to the left of the delivery address on parcels. If more than three articles are sent at a time, the mailer may use Form 3816-AS, COD Mailing and Delivery Receipt.

(Add new Exhibit 2.1:)

Exhibit 2.1 Form 3816, COD Mailing and Delivery Receipt

(Label will appear in DMM.)

* * * * *

3.0 MAILING

* * * * *

(Amend title of 3.2 to read as follows:)

3.2 Numbering for Large Volumes

(Revise 3.2 to read as follows:)

A mailer who regularly mails a large volume of COD mail must ensure that a unique COD number is used for each article mailed.

PART 20—[AMENDED]

1. The authority citation for 39 CFR part 20 continues to read as follows:

Authority: 5 U.S.C. 552(a); 39 U.S.C. 401, 404, 407, 408.

2. Amend the following sections of the International Mail Manual (IMM) as set forth below:

Chapter 3 Special Services

* * * * *

320 Insurance

* * * * *

324 Processing Requests

324.1 Mailing Receipt and Insurance Number

(Amend heading and text of 324.11 to read as follows:)

324.11 General Use

All international parcels must be numbered. PS Form 3813-P, Receipt for Insured Mail—Domestic-International (label), provides a numbered insurance label for the parcel and an identically numbered mailing receipt for the sender. The receipt is issued to the sender as proof of mailing and proof of payment of insurance fee. For volume mailers, use PS Form 3877, Firm Mailing Book for Accountable Mail, as sender's receipt. Only labels printed by the Postal Service may be used on international insured mail.

* * * * *

330 Registered Mail

* * * * *

334 Processing Requests

334.1 Mailing Receipt and Registration Number

(Amend heading and text of 334.11 to read as follows:)

334.11 General Use

A receipt is issued for registered mail when it is accepted. For individual transactions, PS Form 3806, Receipt for Registered Mail, is used. When an average of three or more items are presented for registration at one time, PS Form 3877, Firm Mailing Book for Accountable Mail, may be used (see DMM S911.3.8). The registered number is determined by Label 200, Registered Mail, a preprinted, self-adhesive label with a number series of nine digits preceded by a Service Type Code of two alpha characters and followed by the Country Code of two alpha characters “US.” Only labels printed by the Postal Service may be used on international registered mail.

* * * * *

385 Recorded Delivery

* * * * *

385.4 Processing Requests

(Amend heading and text of 385.41 to read as follows:)

385.41 General Use

PS Form 8099, Receipt for Recorded Delivery, is used for recorded delivery. Only labels printed by the Postal Service may be used on recorded delivery mail.

* * * * *

Stanley F. Mires,
Chief Counsel, Legislative.

[FR Doc. 00-1570 Filed 1-21-00; 8:45 am]

BILLING CODE 7710-12-P